DEPARTMENT OF TRANSPORTATION

Federal Aviation Administration

14 CFR Part 39

[Docket No. FAA-2015-1417; Directorate Identifier 2013-NM-159-AD; Amendment 39-18369; AD 2016-01-10]

RIN 2120-AA64

Airworthiness Directives; Airbus Airplanes

AGENCY: Federal Aviation Administration (FAA), Department of Transportation (DOT).

ACTION: Final rule.

SUMMARY: We are superseding Airworthiness Directive (AD) 2004-20-14, for all Airbus Model A300 B4-2C, B4-103, and B4-203 airplanes; and all Airbus Model A300 B4-600, B4-600R, and F4-600R series airplanes. AD 2004-20-14 required repetitive inspections to detect cracking of the splice fitting at fuselage frame (FR) 47 between stringers 24 and 26 (left- and right-hand sides), and corrective actions if necessary. This new AD reduces the inspection compliance time and repetitive inspection intervals, and adds Airbus Model A300 C4-605R Variant F airplanes to the applicability. This AD was prompted by a determination that the inspection compliance time and repetitive inspection interval must be reduced to allow timely detection of cracks in the splice fitting at fuselage FR 47. We are issuing this AD to detect and correct cracking of the splice fitting at fuselage FR 47; such cracking could result in reduced structural integrity of the airplane.

DATES: This AD becomes effective March 10, 2016.

The Director of the Federal Register approved the incorporation by reference of certain publications listed in this AD as of March 10, 2016.

The Director of the Federal Register approved the incorporation by reference of certain other publications listed in this AD as of November 17, 2004 (69 FR 60809, October 13, 2004).

ADDRESSES: You may examine the AD docket on the Internet at http://www.regulations.gov/#!docketDetail;D=FAA-2015-1417; or in person at the Docket Management Facility, U.S. Department of Transportation, Docket Operations, M-30, West Building Ground Floor, Room W12-140, 1200 New Jersey Avenue SE., Washington, DC.

For service information identified in this final rule, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-1417.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 to supersede AD 2004-20-14, Amendment 39-13819 (69 FR 60809, October 13, 2004), which superseded AD 2001-03-14, Amendment 39-12118 (66 FR 10957, February 21, 2001). AD 2004-20-14 applied to all Model A300 B4-600, B4-600R, and F4-600R (collectively called Model A300-600) series airplanes; and all Model A300 B4 series airplanes. The NPRM published in the Federal Register on May 14, 2015 (80 FR 27607). The NPRM was prompted by a determination that the inspection compliance time and repetitive inspection interval must be reduced to allow timely detection of cracks in the splice fitting at fuselage FR 47. The NPRM proposed to continue to require repetitive inspections to detect cracking of the splice fitting at fuselage FR 47 between stringers 24 and 26 (left- and right-hand sides), and corrective actions if necessary. The NPRM also proposed to reduce the inspection compliance time and repetitive inspection intervals, and add Model A300 C4-605R Variant F airplanes to the applicability. We are issuing this AD to detect and correct cracking of the splice fitting at fuselage FR 47; such cracking could result in reduced structural integrity of the airplane.

The European Aviation Safety Agency (EASA), which is the Technical Agent for the Member States of the European Union, has issued EASA Airworthiness Directive 2013-0184R1, dated August 22, 2013 (referred to after this as the Mandatory Continuing Airworthiness Information, or “the MCAI”), to correct an unsafe condition for all Model A300 B4-600, B4-600R, and F4-600R (collectively called Model A300-600) series airplanes; all Model A300 B4 series airplanes; and all Model A300 C4-605R Variant F airplanes. The MCAI states:

In order to prevent crack development in the fastener holes at Frame (FR) 47 splicing joint on A300 aeroplanes, Airbus developed modification (Mod) 5890 for aeroplanes in production and issued corresponding Service Bulletin (SB) A300-53-0199 for aeroplanes in service.

Subsequently, cracks were found on FR47 splice fitting between stringers (STRG) 24 and 26 on A300 aeroplanes previously modified by SB A300-53-0199.

This condition, if not detected and corrected, could reduce the structural integrity of the aeroplane.

To address this potential unsafe condition, DGAC [Direction Générale de l'Aviation Civile] France issued AD 2002-184 http://ad.easa.europa.eu/blob/2002184tb_superseded.pdf/AD_F-2002-184_2 [which corresponds to FAA AD 2004-20-14, Amendment 39-13819 (69 FR 60809, October 13, 2004)], superseding [DGAC France] AD 85-152-069 and [DGAC France] AD 1999-515-298 [which corresponds to FAA AD 2001-03-14, Amendment 39-12118 (66 FR 10957, February 21, 2001)], to require repetitive High Frequency Eddy Current (HFEC) rotating probe inspections of the splice fitting between STRG 24 and 26 and, depending on findings, corrective action(s). DGAC France AD 2002-184(B) expanded the applicability to A300-600 aeroplanes, which have the same design.

Since that [DGAC France] AD was issued, a fleet survey and updated Fatigue and Damage Tolerance analyses have been performed in order to substantiate the second A300-600 Extended Service Goal (ESG2) exercise. The results of these analyses have determined that the inspection threshold and intervals for A300-600 aeroplanes must be reduced to allow timely detection of these cracks and the accomplishment of an applicable corrective action.

For the reasons described above, [EASA] AD 2013-0184 retains the requirements of DGAC France AD 2002-184, which is superseded, but requires accomplishment of the actions for A300-600 aeroplanes within the new thresholds and intervals introduced with Revision 05 of Airbus SB [service bulletin] A300-53-6123 [dated August 1, 2011].

This [EASA] AD was revised to correct the splices Part Numbers (P/N) in Table 4 of Appendix 1 of this [EASA] AD. Also, reference is now made to Airbus SB A300-53-6123 Revision 06 [dated September 28, 2011], which corrected this mistake compared to Revision 05.

You may examine the MCAI in the AD docket on the Internet at http://www.regulations.gov/#!documentDetail;D=FAA-2015-1417-0002.

Comments

We gave the public the opportunity to participate in developing this AD. The following presents the comments received on the NPRM (80 FR 27607, May 14, 2015) and the FAA's response to each comment.

Request To Revise Compliance Times To Match Service Information

United Parcel Service (UPS) and FedEx Express requested that we revise the compliance times in paragraph (k) of the proposed AD (80 FR 27607, May 14, 2015) to match the compliance times in Airbus Service Bulletin A300-53-6123, Revision 06, dated September 28, 2011, and EASA AD 2013-0184R1, dated August 22, 2013.

We agree with the commenters' requests to revise the compliance times in paragraph (k) of this AD to reflect the compliance times in EASA AD 2013-0184R1, dated August 22, 2013. We have revised paragraph (k) of this AD accordingly. The changes extend the inspection interval and do not add an additional burden on operators.

Request To Retain Inspection Intervals in AD 2004-20-14, Amendment 39-13819 (69 FR 60809, October 13, 2004)

UPS requested that we revise paragraph (k) of the proposed AD (80 FR 27607, May 14, 2015) to retain the inspection intervals in AD 2004-20-14, Amendment 39-13819 (69 FR 60809, October 13, 2004), until the airplanes have reached their design service goal (DSG). UPS stated that acceleration of the inspection interval on airplanes that have less than 33 percent of the original DSG does not enhance safety. UPS explained that the proposed inspection interval reduction introduces additional opportunities for fastener hole damage due to the inspection process, thus increasing the risk for subsequent fatigue damage.

We disagree with the commenter's request. Since AD 2004-20-14, Amendment 39-13819 (69 FR 60809, October 13, 2004), was issued, Airbus conducted a fleet survey and an analysis to extend the DSG. In consideration of this information, we determined that the inspection interval and thresholds needed to be reduced to support timely detection of cracks. The Airbus analysis for the extension of the DSG and other data was used to determine the compliance thresholds and intervals for this AD. We have not changed this AD in this regard.

Request To Revise Repetitive Inspection Interval

FedEx Express requested that we revise the flight-cycle compliance time in paragraph (k)(1) of the proposed AD (80 FR 27607, May 14, 2015) from 2,000 flight cycles to 2,200 flight cycles so that the inspections can consistently be performed at the same interval as a C-check. FedEx Express stated that it considers the 2,200-flight-cycle interval to be conservative. FedEx Express submitted service experience from the previous inspections showing relatively few findings.

We do not agree with the commenter's request. The inspections are dependent upon various configurations and average flight times (AFTs). The commenter did not identify the applicable configuration for the requested 2,200-flight-cycle interval. Operators may request approval of a different interval under the provisions of paragraph (o)(1) of this AD if sufficient specific information is submitted to substantiate that the compliance time will provide an acceptable level of safety. We have not changed this AD in this regard.

Request To Remove Average Flight Time Classifications

UPS request that we revise the compliance times to remove the AFT classifications. UPS stated that it considers that the inspection interval difference with regard to the AFT adds a level of compliance complication that does not enhance fleet safety.

We disagree with the commenter's request. The compliance time thresholds and intervals using AFTs were developed by Airbus using fleet experience and analysis. Once we issue this AD, the commenter may request approval of a different interval under the provisions of paragraph (o)(1) of this AD. Sufficient data must be submitted to substantiate that the compliance time will provide an acceptable level of safety. We have not changed this AD in this regard.

Conclusion

We reviewed the available data, including the comments received, and determined that air safety and the public interest require adopting this AD with the changes described previously and minor editorial changes. We have determined that these changes:

• Are consistent with the intent that was proposed in the NPRM (80 FR 27607, May 14, 2015) for correcting the unsafe condition; and

• Do not add any additional burden upon the public than was already proposed in the NPRM (80 FR 27607, May 14, 2015).

Related Service Information Under 1 CFR Part 51

Airbus has issued the following service information:

• Airbus Service Bulletin A300-53-0350, Revision 03, including Appendix 03, dated July 26, 2007. This service bulletin describes procedures for inspections to detect cracking of the splice fitting at fuselage FR 47 between stringers 24 and 26, and corrective actions.

• Airbus Service Bulletin A300-53-6123, Revision 06, dated September 28, 2011. This service bulletin describes procedures for inspections for cracking of the splice fitting at fuselage FR 47 between stringers 24 and 26, and corrective actions.

This service information is reasonably available because the interested parties have access to it through their normal course of business or by the means identified in the ADDRESSES section.

Costs of Compliance

We estimate that this AD affects 72 airplanes of U.S. registry.

We also estimate that it will take up to 14 work-hours per product to comply with the basic requirements of this AD. The average labor rate is $85 per work hour. Based on these figures, we estimate the cost of this AD on U.S. operators to be $85,680, or $1,190 per product.

In addition, we estimate that any necessary follow-on actions will take up to 204 work-hours and require parts costing up to $37,000, for a cost of up to $54,340 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2015-1417; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2004-20-14, Amendment 39-13819 (69 FR 60809, October 13, 2004), and adding the following new AD:

2016-01-10 Airbus: Amendment 39-18369; Docket No. FAA-2015-1417; Directorate Identifier 2013-NM-159-AD.

(a) Effective Date

This AD becomes effective March 10, 2016.

(b) Affected ADs

This AD replaces AD 2004-20-14, Amendment 39-13819 (69 FR 60809, October 13, 2004).

(c) Applicability

This AD applies to the Airbus airplanes identified in paragraphs (c)(1) through (c)(5) of this AD, certificated in any category, all manufacturer serial numbers.

(1) Airbus Model A300 B4-2C, B4-103, and B4-203 airplanes.

(2) Airbus Model A300 B4-601, B4-603, B4-620, and B4-622 airplanes.

(3) Airbus Model A300 B4-605R and B4-622R airplanes.

(4) Airbus Model A300 F4-605R and F4-622R airplanes.

(5) Airbus Model A300 C4-605R Variant F airplanes.

(d) Subject

Air Transport Association (ATA) of America Code 53, Fuselage.

(e) Reason

This AD was prompted by a determination that the inspection compliance time and repetitive inspection interval specified in AD 2004-20-14, Amendment 39-13819 (69 FR 60809, October 13, 2004), must be reduced to allow timely detection of cracks in the splice fitting at fuselage frame (FR) 47. We are issuing this AD to detect and correct cracking of the splice fitting at fuselage FR 47; such cracking could result in reduced structural integrity of the airplane.

(f) Compliance

Comply with this AD within the compliance times specified, unless already done.

(g) Retained Repetitive Inspections for Airplanes Defined in Airbus Service Bulletin A300-53-0350, Revision 02, Dated November 12, 2002, With New Service Information

This paragraph restates the requirements of paragraph (a) of AD 2004-20-14, Amendment 39-13819 (69 FR 60809, October 13, 2004), with new service information. For airplanes defined in Airbus Service Bulletin A300-53-0350, Revision 02, dated November 12, 2002: Do a high frequency eddy current (HFEC) inspection to detect cracking of the splice fitting at fuselage FR 47 between stringers 24 and 26 (left- and right-hand sides), at the applicable times specified in paragraph (g)(1) or (g)(2) of this AD. Repeat the inspection thereafter at the earlier of the flight-cycle/flight-hour intervals specified in the applicable column in Table 2 of Figure 1 and Sheet 1 of the Accomplishment Instructions of Airbus Service Bulletin A300-53-0350, Revision 02, excluding Appendix 01, dated November 12, 2002. Do the inspections in accordance with Airbus Service Bulletin A300-53-0350, Revision 02, excluding Appendix 01, dated November 12, 2002; or Revision 03, excluding Appendix 01, dated July 26, 2007. As of the effective date of this AD, use only Airbus Service Bulletin A300-53-0350, Revision 03, excluding Appendix 01, dated July 26, 2007.

(1) For airplanes that have accumulated 20,000 or more total flight cycles as of November 17, 2004 (the effective date of AD 2004-20-14, Amendment 39-13819 (69 FR 60809, October 13, 2004)): Do the initial inspection at the later of the times specified in paragraphs (g)(1)(i) and (g)(1)(ii) of this AD.

(i) At the earlier of the flight-cycle/flight-hour intervals after November 17, 2004 (the effective date of AD 2004-20-14, Amendment 39-13819 (69 FR 60809, October 13, 2004)), as specified in the applicable column in Table 1 of Figure 1 and Sheet 1 of the Accomplishment Instructions of Airbus Service Bulletin A300-53-0350, Revision 02, excluding Appendix 01, dated November 12, 2002.

(ii) Within 750 flight cycles or 1,500 flight hours after November 17, 2004 (the effective date of AD 2004-20-14, Amendment 39-13819 (69 FR 60809, October 13, 2004)), whichever is first.

(2) For airplanes that have accumulated fewer than 20,000 total flight cycles as of November 17, 2004 (the effective date of AD 2004-20-14, Amendment 39-13819 (69 FR 60809, October 13, 2004)): Do the initial inspection at the later of the times specified in paragraphs (g)(2)(i) and (g)(2)(ii) of this AD.

(i) At the earlier of the flight-cycle/flight-hour intervals after November 17, 2004 (the effective date of AD 2004-20-14, Amendment 39-13819 (69 FR 60809, October 13, 2004)), as specified in the applicable column in Table 1 of Figure 1 and Sheet 1 of the Accomplishment Instructions of Airbus Service Bulletin A300-53-0350, Revision 02, excluding Appendix 01, dated November 12, 2002.

(ii) Within 1,800 flight cycles or 3,000 flight hours after November 17, 2004 (the effective date of AD 2004-20-14, Amendment 39-13819 (69 FR 60809, October 13, 2004)), whichever is first.

(h) Retained Repetitive Inspections for Airplanes Defined in Airbus Service Bulletin A300-53-6123, Revision 02, Dated November 12, 2002, With New Service Information

This paragraph restates the requirements of paragraph (b) of AD 2004-20-14, Amendment 39-13819 (69 FR 60809, October 13, 2004), with new service information. For airplanes defined in Airbus Service Bulletin A300-53-6123, Revision 02, dated November 12, 2002: Do the HFEC inspection required by paragraph (g) of this AD at the applicable times specified in paragraph (h)(1) or (h)(2) of this AD. Repeat the inspection thereafter at the earlier of the flight-cycle/flight-hour intervals specified in the applicable column in Table 2 of Figure 1 and Sheet 1 of the Accomplishment Instructions of Airbus Service Bulletin A300-53-6123, Revision 02, excluding Appendix 01, dated November 12, 2002. Do the inspections in accordance with the Accomplishment Instructions of Airbus Service Bulletin A300-53-6123, Revision 02, excluding Appendix 01, dated November 12, 2002; or Revision 06, dated September 28, 2011. Accomplishment of the actions required by paragraph (j) of this AD terminates the requirements of this paragraph.

(1) For airplanes that have accumulated 10,000 or more total flight cycles as of November 17, 2004 (the effective date of AD 2004-20-14, Amendment 39-13819 (69 FR 60809, October 13, 2004)): Do the initial inspection within 750 flight cycles or 1,900 flight hours after November 17, 2004, whichever is first.

(2) For airplanes that have accumulated fewer than 10,000 total flight cycles as of November 17, 2004 (the effective date of AD 2004-20-14, Amendment 39-13819 (69 FR 60809, October 13, 2004)): Do the initial inspection at the later of the times specified in paragraphs (h)(2)(i) and (h)(2)(ii) of this AD.

(i) At the earlier of the flight-cycle/flight-hour intervals after November 17, 2004 (the effective date of AD 2004-2-14, Amendment 39-13819 (69 FR 60809, October 13, 2004)), as specified in the applicable column in Table 1 of Figure 1 and Sheet 1 of the Accomplishment Instructions of Airbus Service Bulletin A300-53-6123, Revision 02, excluding Appendix 01, dated November 12, 2002.

(ii) Within 1,500 flight cycles or 3,800 flight hours after November 17, 2004 (the effective date of AD 2004-20-14, Amendment 39-13819 (69 FR 60809, October 13, 2004)), whichever is first.

(i) Retained Repair, With Revised Repair Instructions

This paragraph restates the requirements of paragraph (c) of AD 2004-20-14, Amendment 39-13819 (69 FR 60809, October 13, 2004), with revised repair instructions. Repair any cracking found during any inspection required by paragraphs (g) and (h) this AD before further flight, in accordance with Airbus Service Bulletin A300-53-0350, Revision 02, excluding Appendix 01, dated November 12, 2002; or Airbus Service Bulletin A300-53-6123, Revision 02, excluding Appendix 01, dated November 12, 2002; as applicable. Where Airbus Service Bulletin A300-53-0350, Revision 02, excluding Appendix 01, dated November 12, 2002; or Airbus Service Bulletin A300-53-6123, Revision 02, excluding Appendix 01, dated November 12, 2002; specifies to contact Airbus in case of certain crack findings, this AD requires that a repair be accomplished before further flight using a method approved by the Manager, International Branch, ANM-116, FAA, Transport Airplane Directorate; or the Direction Générale de l'Aviation Civile (DGAC) (or its delegated agent); or the European Aviation Safety Agency (EASA); or Airbus's EASA Design Organization Approval (DOA).

(j) New Requirement of this AD: Repetitive Inspections

For airplanes identified in paragraphs (c)(2) through (c)(5) of this AD: At the applicable time specified in paragraph (j)(1) or (j)(2) of this AD, remove the fasteners and accomplish an HFEC rotating probe inspection for cracking of the splice fitting between stringer 24 and 26, in accordance with the Accomplishment Instructions of Airbus Service Bulletin A300-53-6123, Revision 06, dated September 28, 2011. Repeat the inspection thereafter at the applicable intervals specified in paragraphs (k)(1) through (k)(4) of this AD. If no cracking is found: Before further flight after each inspection, install new fasteners, in accordance with the Accomplishment Instructions of Airbus Service Bulletin A300-53-6123, Revision 06, dated September 28, 2011. Accomplishment of the initial inspection required by this paragraph terminates the requirements of paragraph (h) of this AD for that airplane.

(1) For airplanes on which Airbus Modification 5890 or the actions specified in Airbus Service Bulletin A300-53-6131 have not been done: At the applicable time specified in paragraphs (j)(1)(i) and (j)(1)(ii) of this AD.

(i) For airplanes that have an average flight time (AFT) that is more than 1.5 hours: At the later of the times specified in paragraphs (j)(1)(i)(A) and (j)(1)(i)(B) of this AD.

(A) Before the accumulation of 2,500 total flight cycles or 5,500 total flight hours, whichever occurs first.

(B) Within 800 flight cycles or 1,750 flight hours, whichever occurs first after the effective date of this AD.

(ii) For airplanes that have an AFT that is equal to or less than 1.5 hours: At the later of the times specified in paragraphs (j)(1)(ii)(A) and (j)(1)(ii)(B) of this AD.

(A) Before the accumulation of 2,700 total flight cycles or 4,100 total flight hours, whichever occurs first.

(B) Within 800 flight cycles or 1,750 flight hours, whichever occurs first after the effective date of this AD.

(2) For airplanes that have accomplished Airbus Modification 5890 or have accomplished the actions specified in Airbus Service Bulletin A300-53-6131: At the applicable time specified in paragraph (j)(2)(i) or (j)(2)(ii) of this AD.

(i) For airplanes that have an AFT that is more than 1.5 hours: At the later of the times specified in paragraphs (j)(2)(i)(A) and (j)(2)(i)(B) of this AD.

(A) Before the accumulation of 6,800 total flight cycles or 14,700 total flight hours, whichever occurs first.

(B) Within 800 flight cycles or 1,750 flight hours, whichever occurs first after the effective date of this AD.

(ii) For airplanes that have an AFT that is equal to or less than 1.5 hours: At the later of the times specified in paragraphs (j)(2)(ii)(A) and (j)(2)(ii)(B) of this AD.

(A) Before the accumulation of 7,300 total flight cycles or 11,000 total flight hours, whichever occurs first.

(B) Within 800 flight cycles or 1,750 flight hours, whichever occurs first after the effective date of this AD.

(k) New Requirement of This AD: Repetitive Inspection Intervals for Actions Specified in Paragraph (j) of This AD

For airplanes identified in paragraphs (c)(2) through (c)(5) of this AD: Repeat the inspection required by paragraph (j) of this AD at the applicable time specified in paragraphs (k)(1) through (k)(4) of this AD.

(1) For airplanes that have an AFT of more than 1.5 hours and meet the applicable conditions specified in paragraphs (k)(1)(i) through (k)(1)(iv) of this AD: Inspect at intervals not to exceed 2,000 flight cycles or 4,300 flight hours, whichever occurs first.

(i) Airplanes on which Airbus Modification 5890 has not been accomplished.

(ii) Airplanes on which the actions specified in Airbus Service Bulletin A300-53-6131 have not been accomplished.

(iii) Airplanes on which Airbus Modification 5890 has been accomplished and have splice part number (P/N) A53834139-202/-203 installed.

(iv) Airplanes on which the actions specified in Airbus Service Bulletin A300-53-6131 have been accomplished and have splice P/N A53834139-202/-203 installed.

(2) For airplanes that have an AFT that is equal to or less than 1.5 hours and meet the applicable conditions specified in paragraphs (k)(2)(i) through (k)(2)(iv) of this AD: Inspect at intervals not to exceed 2,100 flight cycles or 3,200 flight hours.

(i) Airplanes on which Airbus Modification 5890 has not been accomplished.

(ii) Airplanes on which the actions specified in Airbus Service Bulletin A300-53-6131 have not been accomplished.

(iii) Airplanes on which Airbus Modification 5890 has been accomplished and have splice P/N A53834139-202/-203 installed.

(iv) Airplanes on which the actions described in Airbus Service Bulletin A300-53-6131 have been accomplished and have splice P/N A53834139-202/-203 installed.

(3) For airplanes that have an AFT of more than 1.5 hours and meet the applicable conditions specified in paragraphs (k)(3)(i) and (k)(3)(ii) of this AD: Inspect at intervals not to exceed 1,600 flight cycles or 3,500 flight hours.

(i) Airplanes on which Airbus Modification 5890 has been accomplished and have splice P/N A53812635-200/-201/-202/-203 installed.

(ii) Airplanes on which the actions specified in Airbus Service Bulletin A300-53-6131 have been accomplished and have splice P/N A53812635-200-201/-202/-203 installed.

(4) For the airplanes that have an AFT that is equal to or less than 1.5 hours and meet the applicable conditions specified in paragraphs (k)(4)(i) and (k)(4)(ii) of this AD: Inspect at intervals not to exceed 1,700 flight cycles or 2,600 flight hours.

(i) Airplanes on which Airbus Modification 5890 has been accomplished and have splice P/N A53812635-200/-201/-202/-203 installed.

(ii) Airplanes on which the actions specified in Airbus Service Bulletin A300-53-6131 have been accomplished and have splice P/N A53812635-200/-201/-202/-203 installed.

(l) New Requirement of This AD: Corrective Actions

If, during any inspection required by paragraph (j) or (k) of this AD, any crack is found: Before further flight, do the applicable corrective actions, in accordance with the Accomplishment Instructions of Airbus Service Bulletin A300-53-6123, Revision 06, dated September 28, 2011, except as provided by paragraph (m) of this AD.

(m) New Requirement of This AD: Exception to Service Information

If any crack is found during any inspection required by paragraph (j) or (k) of this AD and Airbus Service Bulletin A300-53-6123, Revision 06, dated September 28, 2011; or Airbus Service Bulletin A300-53-0350, Revision 03, dated July 26, 2007; specifies to contact Airbus: Before further flight, repair the crack using a method approved by the Manager, International Branch, ANM-116, Transport Airplane Directorate, FAA; or the EASA; or Airbus's EASA DOA.

(n) Credit for Previous Actions

This paragraph provides credit for actions required by paragraphs (j) and (l) of this AD, if those actions were performed before the effective date of this AD using the applicable service information specified in paragraphs (n)(1) through (n)(6) of this AD.

(1) Airbus Service Bulletin A300-53-0350, Revision 01, dated December 18, 2001, which is not incorporated by reference in this AD.

(2) Airbus Service Bulletin A300-53-0350, Revision 02, excluding Appendix 01, dated November 12, 2002, which was incorporated by reference in AD 2004-20-14, Amendment 39-13819 (69 FR 60809, October 13, 2004).

(3) Airbus Service Bulletin A300-53-6123, Revision 01, dated December 18, 2001, which is not incorporated by reference in this AD.

(4) Airbus Service Bulletin A300-53-6123, Revision 03, dated August 20, 2004, which is not incorporated by reference in this AD.

(5) Airbus Service Bulletin A300-53-6123, Revision 04, dated April 25, 2008, which is not incorporated by reference in this AD.

(6) Airbus Service Bulletin A300-53-6123, Revision 05, dated August 1, 2011, which is not incorporated by reference in this AD.

(o) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(p) Related Information

(1) Refer to Mandatory Continuing Airworthiness Information (MCAI) Airworthiness Directive 2013-0184R1, dated August 22, 2013, for related information. This MCAI may be found in the AD docket on the Internet at http://www.regulations.gov by searching for and locating Docket No. FAA-2015-1417.

(2) Service information identified in this AD that is not incorporated by reference is available at the addresses specified in paragraphs (q)(5) and (q)(6) of this AD.

(q) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 10, 2016.

(i) Airbus Service Bulletin A300-53-0350, Revision 03, dated July 26, 2007.

(ii) Airbus Service Bulletin A300-53-6123, Revision 06, dated September 28, 2011.

(4) The following service information was approved for IBR on November 17, 2004 (69 FR 60809, October 13, 2004).

(i) Airbus Service Bulletin A300-53-6123, Revision 02, excluding Appendix 01, dated November 12, 2002.

(ii) Reserved.

(5) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on December 31, 2015.
Phil Forde,
Acting Manager, Transport Airplane Directorate, Aircraft Certification Service.

[FR Doc. 2016-00379 Filed 2-3-16; 8:45 am]

BILLING CODE 4910-13-P